ENVIRONMENTAL PROTECTION AGENCY

[FRL-6565-8]

Agency Information Collection Activities; Training Requirements for Authorization of Compliance Monitoring Inspectors

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): Training Requirements for Authorization of Compliance Monitoring Inspectors, EPA ICR number 1960.01. Before submitting the ICR to OMB for review and approval, EPA is soliciting comments on specific aspects of the proposed information collection as described below.

DATES: Comments must be submitted on or before July 3, 2000.

ADDRESSES: Jonathan S. Binder (2224A), U.S. EPA, 401 M St., S.W., Washington D.C. 20460. Interested persons may obtain a copy of the ICR without charge by calling Jonathan S. Binder at (202) 564-2516.

FOR FURTHER INFORMATION CONTACT: Jonathan S. Binder, (202) 564-2516. Facsimile number: (202) 564-0009.

SUPPLEMENTARY INFORMATION: Affected entities: Entities potentially affected by this action are federally-recognized Indian tribes (tribes), states, and territories, as well as inter-tribal consortia who maintain a cooperative agreement with the EPA, whose environment inspectors are nominated for authorization or are currently authorized to conduct federal inspections on behalf of EPA. The request for information from these affected entities is voluntary and based upon the desire of tribes, states, territories, or inter-tribal consortia to enable their employees to receive federal inspector credentials.

Title: Training Requirements for Authorization of Compliance Monitoring Inspectors.

Abstract: This will be a collection of information on the training background of employees of tribes, states, territories, and inter-tribal consortia who are nominated for authorization or are currently authorized to conduct federal inspections on behalf of EPA.

Various federal environmental laws authorize the Administrator of EPA or her designee to monitor the regulated communities' compliance with statutory and regulatory requirements. Through the development of standard procedures, EPA is planning to “authorize” or “duly designate” inspectors employed by tribes, states, territories, and inter-tribal consortia to conduct environmental compliance inspections (inspections) with federal credentials on behalf of EPA. The standard procedures will be designed to facilitate a partnership between EPA and tribes, states, territories, and inter-tribal consortia to protect human health and the environment.

With this initiative, EPA strives to build the capacity of regulating agencies and/or departments for more effective compliance monitoring of the regulated community. Under the draft national procedures, EPA retains sole responsibility for authorizing inspectors and issuing, replacing, renewing, and revoking federal credentials. EPA also retains decision-making authority for all federal enforcement and compliance assistance activities related to inspections conducted by authorized inspectors using federal credentials. As such, neither tribes, states, nor territories, nor authorized inspectors could take a federal enforcement action with information gathered during an inspection conducted with a federal credential unless otherwise authorized to do so by EPA.

The draft national standards seek to ensure the quality of inspectors who receive or retain authorization to conduct inspections on behalf of EPA. EPA needs to collect certain information that is currently not collected and which does not exist in our current databases. To meet this need, EPA designed a training requirements form that will make it easy for EPA, tribes, states, territories, and their employees to assess the qualifications of inspectors who receive or retain authorization to conduct inspections on EPA's behalf. There are three components to the collection of information on training taken by individual inspectors. First, the “ title of the training” is required. Second, the “completion date” of the training is required. Third and finally, the “training sponsor” is required. To ensure that the courses meet the requirements of the draft Inspector Credentials Authorization Procedures, EPA may also request the outline or other information on training courses sponsored by non-EPA entities; tribes, states, territories, and inter-tribal consortium are encouraged to attach this information when sending this form to EPA.

The training requirements form can be completed electronically and E-mailed to the appropriate Agency contact or sent in hardcopy via the postal service or express mail. Moreover, the training requirements form will be available via the Internet.

A Department or agency may not conduct or sponsor, and a person is not required to respond to, a collection of information unless it displays a currently valid OMB control number. The OMB control numbers for EPA's regulations are listed in 40 CFR Part 9 and 48 CFR Chapter 15.

The EPA is soliciting comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including the use of appropriate automated electronic, mechanical, or other technological collection techniques or other forms of information technology, e.g., permitting electronic submission of responses.

Burden Statement: It is estimated that approximately 80 regulating agencies and/or departments and inter-tribal consortia may voluntarily agree to nominate employees to receive federal inspector credentials and submit information on the training experiences of each inspector. EPA estimates that participating regulating agencies and/or departments and/or inter-tribal consortia may need to spend 45 minutes to complete the form (30 minutes of staff time and 15 minutes of a supervisor's time) for each affected employee. EPA is estimating that each agency, on average, may nominate 2 inspectors for authorization to receive federal credentials. Therefore, a total of 120 person hours within the regulating agencies and/or departments and/or inter-tribal consortia may be expended to provide EPA with the training experiences. This burden hour estimate translates to a cost of $32.66 per each of the 80 regulating agency and/or department and/or inter-tribal consortia that voluntarily completes the background information form for two inspectors and a total cost of $2,612.80. The costs to the regulating agencies and/or departments and/or inter-tribal consortia were calculated based on labor rates of $17.48 per hour, plus $30.34 supervisory time from the United States of Commerce, Bureau of Labor Statistics, March 1998, Table 4: Employment Costs of State and Local Government. Burden means the total time, effort, or financial resources expended by persons to generate, maintain, retain, or disclose or provide information to or for a Federal agency. This includes the time needed to review instructions; collect, validate, and verify information, processing and maintaining information, and disclosing and providing information; adjust the existing ways to comply with any previously applicable instructions and requirements; train personnel to be able to respond to a collection of information; search data sources; complete and review the collection of information; and transmit or otherwise disclose the information.

Dated: March 17, 2000.
Michael Stahl,
Acting Director Office of Compliance.

[FR Doc. 00-8154 Filed 3-31-00; 8:45 am]

BILLING CODE 6560-50-U